DEPARTMENT OF AGRICULTURE

Rural Utilities Service

Tri-State Generation and Transmission Association, Inc.; Notice of Availability of a Record of Decision

AGENCY: Rural Utilities Service, USDA.

ACTION: Notice of availability of a record of decision.

SUMMARY: Notice is hereby given that the Rural Utilities Service (RUS) has issued its Record of Decision (ROD) for the Nucla-Telluride 115 kV Transmission Line Project. The decision of RUS is that the National Environmental Policy Act review process has been satisfied with respect to a potential request for financing assistance from Tri-State Generation and Transmission Association, Inc. (Tri-State), of Westminster, Colorado.

FOR FUTHER INFORMATION CONTACT: Dennis E. Rankin, Environmental Protection Specialist, RUS, Engineering and Environmental Staff, Stop 1571, 1400 Independence Avenue, SW., Washington, DC 20250-1571 or e-mail: drankin@rus.usda.gov.

SUPPLEMENTARY INFORMATION: Tri-State has proposed a 115 kV transmission line in order to improve the reliability of power to Telluride and other surrounding communities, as well as increase the capacity of the regional transmission grid to transfer bulk power through southwestern Colorado. The 115 kV transmission line would replace and potentially relocate an existing 69 kV line that is owned and operated by San Miguel Power Association. The U. S. Forest Service (FS) served as the lead Federal agency in the environmental review process. RUS and the Bureau of Land Management (BLM) are cooperating agencies in the process.

The RUS preferred alternative is the construction of an overhead 115 kV transmission line using the Nucla—Norwood Central Alternative and the Norwood—Sunshine Alternative corridors. Subalternative corridors C and D may also be used in the final line route. Associated facilities include the expansion of the Norwood Substation at its current location; the modification of the Nucla, Species Mesa, Wilson Mesa and Sunshine Substations; and the dismantling of the Oakhill Substation. Modifications to sections of San Miguel Power Association's distribution system would also be required. The FS and BLM have previously issued their Records-of-Decision regarding the project.

Federal, State, and local agencies and the public who had previously requested copies of the Record-of-Decision will receive a copy of the ROD by direct mail. RUS’ ROD is also available online at http://www.usda.gov/rus/water/ees/eis.htm.

Dated: March 12, 2003.
Alfred Rodgers,
Acting Assistant Administrator, Electric Program, Rural Utilities Service.

[FR Doc. 03-6346 Filed 3-14-03; 8:45 am]

BILLING CODE 3410-15-P